FEDERAL RETIREMENT THRIFT INVESTMENT BOARD

Sunshine Act Notice

Time and Date: 9 a.m. (EST), November 18, 2002.

Place: 4th Floor, Conference Room, 1250 H Street, NW., Washington, DC.

Status: Parts will be open to the public and part closed to the public.

Matters To Be Considered:

Parts Open to the Public

1. Approval of the minutes of the October 21, 2002, Board member meeting.

2. Thrift Savings Plan activity report by the Executive Director.

3. Review of KPMG LLP audit reports:

U.S. Department of Treasury Operations relating to the Thrift Savings Plan Investments in the Government Securities Investment Fund

System Enhancement and Software Change Controls of the Thrift Savings Plan at the United States Department of Agriculture, National Finance Center

Administrative Review of the Thrift Savings Plan Legacy System Subsystems at the United States Department of Agriculture, National Finance Center

Pre-Implementation Review of the New Thrift Savings Plan Record Keeping System

Preliminary report on the Thrift Savings Plan's Retention of the National Finance Center as Record Keeper

4. Semiannual review of status of audit recommendations.

5. Labor Department audit briefing.

6. Quarterly investment policy review.

7. Annual ethics briefing.

Part Closed to the Public

Discussion of litigation.

Contact Person for More Information: Thomas J. Trabucco, Director, Office of External Affairs, (202) 942-1640.

Dated: November 4, 2002.
David L. Hutner,
Secretary to the Board, Federal Retirement Thrift Investment Board.

[FR Doc. 02-28327 Filed 11-4-02; 11:46 am]

BILLING CODE 6760-01-M